DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before March 24, 2014. Address written comments to Statutory Import Programs Staff, Room 3720, U.S. Department of Commerce, Washington, DC 20230. Applications may be examined between 8:30 a.m. and 5:00 p.m. at the U.S. Department of Commerce in Room 3720.

Docket Number: 14-002. Applicant: University of Minnesota, Dept. of Biochem., Mol. Biol. & Biophysics, 140 Gortner Lab, 1479 Gortner Ave., St. Paul, MN 55108. Instrument: Anaerobic glovebox for crystallography. Manufacturer: Belle Technology UK Ltd, Great Britain. Intended Use: The instrument will be used to study the growth of crystals of oxygen-sensitive proteins and trapping of catalytic intermediates in crystals of enzymes which utilize oxygen as a substrate. The objective is to produce atomic resolution molecular structures of oxygen-sensitive or oxygen-dependent proteins by x-ray crystallography. The necessary features of this instrument include an entry port in the floor of the microscope box that forms an air-tight seal with a two liter liquid nitrogen dewar mated to the port from outside the box. Air needs to be expelled (purged) from above the liquid nitrogen surface and replaced with gaseous nitrogen. Closure of the port allows removal of the dewar. An air-tight door between the larger anaerobic crystallization box and the anaerobic microscope box is also necessary. Justification for Duty-Free Entry: There are no instruments of the same general category manufactured in the United States. Application accepted by Commissioner of Customs: January 23, 2014.

Dated: February 24, 2014.
Gregory W. Campbell,
Director of Subsidies Enforcement, Enforcement and Compliance.

[FR Doc. 2014-04642 Filed 2-28-14; 8:45 am]

BILLING CODE 3510-DS-P